DEPARTMENT OF LABOR

Employment and Training Administration

[TA-W-55,547]

Eddie Labels & Accessories Corporation, City of Industry, CA; Notice of Termination of Investigation

Pursuant to section 221 of the Trade Act of 1974, as amended, an investigation was initiated on September 2, 2004 in response to a petition filed on behalf of workers at Eddie Labels & Accessories Corporation, City of Industry, California.

The Department has been unable to locate the company official for the subject group or to obtain the information necessary to reach a determination on worker group eligibility. Consequently, further investigation in this case would serve no purpose, and the investigation has been terminated.

Signed at Washington, DC, this 29th day of September 2004.
Richard Church,
Certifying Officer, Division of Trade Adjustment Assistance.

[FR Doc. E4-2696 Filed 10-15-04; 8:45 am]

BILLING CODE 4510-30-P